DEPARTMENT OF TRANSPORTATION

Federal Aviation Administration

[Policy Statement No. ANM-02-115-15]

Certification of Passenger Seat Armrests

AGENCY: Federal Aviation Administration (FAA), DOT.

ACTION: Notice of final policy.

SUMMARY: The Federal Aviation Administration (FAA) announces the availability of final policy that clarifies current FAA policy with respect to certification of passenger seat armrests.

DATES: The final policy was issued by the Transport Airplane Directorate on November 25, 2002.

FOR FURTHER INFORMATION CONTACT: Jayson Claar, Federal Aviation Administration, Transport Airplane Directorate, Transport Standards Staff, Airframe and Cabin Safety Branch, ANM-115, 1601 Lind Avenue SW., Renton, WA 98055-4056; telephone (425) 227-2194; fax (425) 227-1320; e-mail: jayson.claar@faa.gov.

SUPPLEMENTARY INFORMATION:

Discussion of Comments

A notice of proposed policy was published in Federal Register on August 16, 2002 (67 FR 53641). Two (2) commenters responded to the request for comments.

Background

The policy provides additional guidance with respect to compliance with § 25.785(d), Amendment, 25-88, for transport category airplane passenger seat armrests, and is specifically aimed at documenting an alternative to current policy and guidance for demonstrating compliance with that section for seat armrests which may be struck by persons seated behind them.

The final policy as well as the disposition of public comments is available on the Internet at the following address: http://www.faa.gov/certification/aircraft/anminfo/finalpaper.cfm. If you do not have access to the Internet, you can obtain a copy of the policy by contacting the person listed under FOR FURTHER INFORMATION CONTACT.

Issued in Renton, Washington, on November 25, 2002.
Ali Bahrami,
Acting Manager, Transport Airplane Driectorate, Aircraft Certification Service.

[FR Doc. 02-31346 Filed 12-11-02; 8:45 am]

BILLING CODE 4910-13-M